DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by March 27, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: RUS Specification for Quality Control and Inspection of Timber Products.

OMB Control Number: 0572-0076.

Summary of Collection: The Rural Utilities Service (RUS) is a credit agency of the U.S. Department of Agriculture (USDA) and is authorized to manage loan programs in accordance with the Rural Electrification Act (RE Act) of 1936, 7 U.S.C. 901 et seq., as amended. It makes mortgage loans and loan guarantees to finance telecommunications, electric, and water and waste facilities in rural areas. To ensure the security of loan funds, adequate quality control of timber products is vital to loan security on electric power systems where hundreds of thousands of wood-poles and cross-arms are used. Prior to receiving loan funds, a RUS borrower must enter into a loan contract with RUS. In accordance with article V, section 5.14 of the loan contract, “the borrower shall use design standards, construction standards and lists of acceptable materials in conformance with RUS regulations.

Need and Use of the Information: The purchaser or treating company may obtain the services of an inspection agency or third-party oversight organization to perform certain inspection services to insure that the specifications for wood poles and cross-arms are being met. As required by 7 CFR 1728.202(i) copies of test reports on various preservatives must accompany each charge (a charge being a load of poles treated at the same time in a pressure cylinder). Test reports are needed so that the purchaser, the inspectors, and RUS will be able to spot-check the general accuracy of the tests. RUS will use the information in verifying acceptability of poles and cross-arms purchased by RUS borrowers.

Description of Respondents: Business or other for-profit; Not-for-profit institutions.

Number of Respondents: 25.

Frequency of Responses: Reporting: On occasion.

Total Burden Hours: 20,333.

Rural Utilities Service

Title: 7 CFR part 1744, subpart B, Lien Accommodations and Subordination Policy.

OMB Control Number: 0572-0126.

Summary of Collection: The information collected in this information collection package is received from RUS telecommunications borrowers. The policy of considering Lien Accommodations will continue to facilitate funding from non-agency sources in order to meet the growing capital needs of rural Local Exchange Carriers (LECs). Depending on the purposes for which a lien accommodation is sought, RUS will utilize the information to provide an expedited approval for borrowers that meet the financial tests described in this rule. RUS believes that borrowers that are financially sound should be afforded more flexibility with regard to financial arrangements with outside lenders for the purpose of promoting rural telecommunications. The tests are designed to ensure that the financial strength of the borrower is more than sufficient to protect the government's loan security interests; hence, the lien accommodations will not adversely affect the government's financial interests.

Need and Use of the Information: In order to facilitate supplemental financing for telecommunications services projects, RUS provides fast track lien accommodations to private lenders who propose to lend to RUS borrowers who meet certain financial strength evaluations. Depending on the purposes for which a lien accommodation is sought, RUS will use the information to provide expedited approval for borrowers that meet the financial tests. The tests are designed to ensure that the financial strength of the borrower is more than sufficient to protect the government's loan security interests; hence, the lien accommodations will not adversely affect the government's financial interests.

Description of Respondents: Business or other for-profit.

Number of Respondents: 12.

Frequency of Responses: Reporting: On occasion.

Total Burden Hours: 18.

Levi S. Harrell,
Departmental Information Collection Clearance Officer.

[FR Doc. 2024-03839 Filed 2-23-24; 8:45 am]

BILLING CODE 3410-15-P